DEPARTMENT OF HEALTH AND HUMAN SERVICES

Centers for Disease Control and Prevention

[30Day-07-05BL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Worksheet for Identifying Medical Conditions among Refugees and Immigrants—New—National Center for Preparedness, Detection, and Control of Infectious Diseases (NCPDCID), Centers for Disease Control and Prevention (CDC).

Background and Brief Description

CDC is requesting OMB approval of a worksheet to be used by state and local health coordinators to identify and monitor specific medical conditions of public health importance in newly arrived refugees and immigrants. CDC requests notification of specific medical conditions listed on the Worksheet, including Class A and B health conditions not recognized overseas, as well as any discrepancies in the overseas and U.S.-based medical evaluations. Completion of the Worksheet and furnishing the requested information are essential to preventing the spread of disease.

Respondents are State and local health officials who will complete the Worksheet and return it to CDC. The Worksheet will be completed whenever a medical condition is identified in a newly arrived immigrant or refugee. The information collected in the Worksheet will be used by CDC to identify and rectify deficiencies in the overseas medical evaluation process, and evaluate and optimize overseas screening procedures and guidelines in the future.

The only cost to respondents is their time to complete the Worksheet. The total estimated annualized burden hours are 4,250.

Respondents | Number of respondents | Number of responses per respondent | Average burden per response (in hours)
State and local health agencies | 300 | 170 | 5/60

Dated: June 5, 2007.
Maryam I. Daneshvar,
Acting Reports Clearance Officer, Centers for Disease Control and Prevention.

[FR Doc. E7-11279 Filed 6-11-07; 8:45 am]

BILLING CODE 4163-18-P